DEPARTMENT OF JUSTICE

Notice of Lodging of Proposed Consent Decree Under the Comprehensive Environmental Response, Compensation, and Liability Act

On January 10, 2025, the U.S. Department of Justice (DOJ) filed a Complaint and lodged a proposed Consent Decree with the United States District Court for the Southern District of Illinois in the lawsuit entitled United States of America v. General Dynamics-Ordnance and Tactical Systems et al., Civil Acton No. 3:25-cv-00046.

The proposed Consent Decree resolves claims brought by the United States under section 107 of the Comprehensive Environmental Response, Compensation, and Liability Act, 42 U.S.C. 9607, for releases and threatened releases of hazardous substances at the Additional and Uncharacterized Sites Operable Unit (“AUS OU”), which is part of the Crab Orchard National Wildlife Refuge Superfund Site located near Marion, Illinois. The proposed settlement would resolve claims against General Dynamics-Ordnance and Tactical Systems, Inc. (“GD-OTS”), Crane Company, The Ensign-Bickford Company, Illinois Tool Works Inc., Olin Corporation, United States Surgical Corporation, Mallinckrodt US LLC, The Sherwin Williams Company, and Mason Hanger Corporation (collectively, “Defendants”) for response costs incurred by the Department of the Interior (“DOI”) and the U.S. Environmental Protection Agency (“EPA”). The proposed settlement would also resolve potential counterclaims by GD-OTS against DOI, the Department of the Army, the Bureau of Prisons, and the General Services Administration (collectively “Settling Federal Agencies”), for the Settling Federal Agencies' share of response costs GD-OTS has incurred and will incur to implement an Administrative Order on Consent to perform a Remedial Investigation and Feasibility Study for the AUS OU, and for the Settling Federal Agencies' share of DOI's and EPA's past response costs. Under the proposed settlement, the Settling Federal Agencies will reimburse GD-OTS $24.3 million for past response costs and agree to reimburse 48% of GD-OTS' future response costs on a “pay-as-you-go” basis. The Defendants will reimburse DOI for $3.1 million and EPA for $54,000 in past response costs. The Settling Federal Agencies will also reimburse DOI for $2.9 million and EPA for $50,000.

The publication of this notice opens a period for public comment on the proposed Consent Decree. Comments should be addressed to Assistant Attorney General, Environment and Natural Resources Division, and should refer to United States of America v. General Dynamics-Ordnance and Tactical Systems et al., D.J. Ref. No. 90-11-3-643/17. All comments must be submitted no later than thirty (30) days after the publication date of this notice. Comments may be submitted by email or mail:

To submit comments | Send them to
By e-mail | pubcomment-ees.enrd@usdoj.gov
By mail | Assistant Attorney General U.S. DOJ-ENRD P.O. Box 7611 Washington, D.C. 20044-7611

Any comments submitted in writing may be filed in whole or in part on the public court docket without notice to the commenter. During the public comment period, the proposed Consent Decree may be examined and downloaded at this Justice Department website: https://www.justice.gov/enrd/consent-decrees. If you require assistance accessing the proposed Consent Decree, you may request assistance by email or by mail to the addresses provided above for submitting comments.

Laura Thoms,
Assistant Section Chief, Environmental Enforcement Section, Environment and Natural Resources Division.

[FR Doc. 2025-01087 Filed 1-16-25; 8:45 am]

BILLING CODE 4410-CW-P